DEPARTMENT OF ENERGY

Office of Energy Efficiency and Renewable Energy

10 CFR Part 430

Energy Conservation Program for Consumer Products and Commercial and Industrial Equipment

AGENCY: Office of Energy Efficiency and Renewable Energy, Department of Energy.

ACTION: Notice of public meeting.

SUMMARY: The Department of Energy (DOE or Department) will hold a public meeting to explore potential new products to be included in the existing appliance standards program and/or voluntary programs. This meeting will continue the September 11, 2001, public meeting where DOE discussed the priorities of the existing appliance standards program, possible expansion of the scope of the program, and criteria and the process for applying the criteria in considering new products for either standards or voluntary programs. In addition, the Department is interested in receiving comments on the preliminary data sheets for potential new products and recommendations as to whether or not these products should be further considered for a standard and/or for a voluntary program such as Energy Star.

DATES: The public meeting will be held on Tuesday, November 6, 2001, from 9:00 a.m. to 4:00 p.m. Written comments should be submitted by November 20, 2001.

ADDRESSES: The meeting will be held at the U.S. Department of Energy, Forrestal Building, Room 1E-245, 1000 Independence Avenue, SW, Washington, DC 20585. (Please note that foreign nationals visiting DOE Headquarters are subject to advance security screening procedures. If you are a foreign national and wish to participate in the meeting, please inform DOE of this fact as soon as possible by contacting Ms. Brenda Edwards-Jones at (202) 586-2945 so that the necessary procedures can be completed.)

A list identifying the proposed priority for standards rulemakings that are currently mandated by statute, a list of possible new products that have been identified by various stakeholders, comments on the August 28, 2001, Federal Register notice of the September 11, 2001, public meeting, including the transcript and presentation material from the September 11, 2001, public meeting, and preliminary data sheets for potential new products can be found on the DOE website at: http://www.eren.doe.gov/buildings/codes_standards/index.htm

Written comments are welcome, especially following the meeting. Please submit written comments to: Ms. Brenda Edwards-Jones, U.S. Department of Energy, Office of Energy Efficiency and Renewable Energy, Energy Conservation Program for Consumer Products, EE-41, 1000 Independence Avenue, SW, Washington, DC 20585-0121. Telephone: (202) 586-2945; Telefax: (202) 586-4617. You should label comments both on the envelope and on the documents and submit them for DOE receipt by November 20, 2001. Please submit one signed copy and a computer diskette (WordPerfect 8) or 10 copies (no telefacsimiles). The Department will also accept electronically-mailed comments, e-mailed to Brenda.Edwards-Jones@ee.doe.gov, but you must supplement such comments with a signed hard copy.

Copies of the agenda and attendees of the public meeting, the public comments received, the list of current rulemakings and possible new products, and this notice may be read at the Freedom of Information Reading Room, U.S. Department of Energy, Forrestal Building, Room 1E-190, 1000 Independence Avenue, SW, Washington, DC 20585, (202) 586-3142, between the hours of 9:00 a.m. and 4:00 p.m., Monday through Friday, except Federal holidays.

FOR FURTHER INFORMATION CONTACT: Michael Raymond, U.S. Department of Energy, Office of Energy Efficiency and Renewable Energy, EE-41, 1000 Independence Avenue, SW, Washington, DC 20585-0121, (202) 586-9611, email: michael.raymond@ee.doe.gov pertaining to priority setting for current rulemakings, and Bryan Berringer, U.S. Department of Energy, Office of Energy Efficiency and Renewable Energy, EE-41, 1000 Independence Avenue, SW, Washington, DC 20585-0121, (202) 586-0371, email: bryan.berringer@ee.doe.gov pertaining to possible new products, or Francine Pinto, U.S. Department of Energy, Office of General Counsel, GC-72, 1000 Independence Avenue, SW, Washington, DC 20585-0103, (202) 586-7432, email: francine.pinto@hq.doe.gov

SUPPLEMENTARY INFORMATION: On May 2001, the National Energy Policy Development Group (NEPD Group) reported a National Energy Policy to the President. One of the recommendations called for the President to direct the Secretary of Energy to take steps to improve the energy efficiency of appliances. The recommendation included supporting the existing appliance standards program, setting higher standards where technologically feasible and economically justified, and expanding the scope of the program to include additional consumer products and commercial and industrial equipment where technically feasible and economically justified.

The Federal Register notice dated August 28, 2001 (66 FR 45188), announced the September 11, 2001, public meeting and requested written comments be submitted by October 11, 2001. The September 11 public was to discuss the priorities of the existing appliance standards program and any possible expansion of the scope of the program to include additional consumer products and commercial and industrial equipment. However, as a result of the tragic events of September 11, 2001, the public meeting was cut short. At the September 11 public meeting, the interested parties discussed the criteria DOE should consider in deciding whether to expand the scope of the program, including the factors, data and analysis methods that might be used by DOE in its decision making process. Following the September 11 public meeting, DOE received written comments supporting adding a new factor, impact on innovation to the existing priority setting criteria.

DOE developed the list of possible new commercial and residential products from various independent sources which was presented at the September 11 public meeting. DOE has incorporated an additional criterion suggested at the September 11 public meeting, and developed preliminary data sheets for potential new products. This list as well as a listing of current rulemakings and the preliminary data sheets can be found on the following web-site: http://www.eren.doe.gov/buildings/codes_standards/index.htm

The November 6, 2001, public meeting will be to: continue the discussion of the possible expansion of the scope of the program, and review the comments received in response to the August 28, 2001, notice of public meeting; discuss how these comments should be incorporated into the process; review the preliminary data sheets developed; and discuss how these products should be considered for prioritization. The outcome of the meeting would be to screen out products which do not merit further consideration for either a standard and/or voluntary program.

The meeting will be conducted in an informal, conference style. There will not be any discussion of proprietary information, costs or prices, market shares, or other commercial matters regulated by the U.S. antitrust laws.

After the meeting and expiration of the period for submitting written statements, the Department will begin consideration of the comments received.

If you would like to participate in the meeting, receive meeting materials, or be added to the DOE mailing list to receive future notices and information regarding the energy conservation program for consumer products and commercial and industrial equipment, please contact Ms. Brenda Edwards-Jones at (202) 586-2945.

Issued in Washington, DC, on October 17, 2001.
David K. Garman,
Assistant Secretary for Energy Efficiency and Renewable Energy.

[FR Doc. 01-26672 Filed 10-22-01; 8:45 am]

BILLING CODE 6450-01-P